INTERNATIONAL TRADE COMMISSION

[USITC SE-12-010]

Government in the Sunshine Act Meeting Notice

AGENCY HOLDING THE MEETING: International Trade Commission.

TIME AND DATE: April 13, 2012 at 11 a.m.

PLACE: Room 101, 500 E Street SW., Washington, DC 20436, Telephone: (202) 205-2000.

STATUS: Open to the public.

MATTERS TO BE CONSIDERED:

1. Agendas for future meetings: none.

2. Minutes.

3. Ratification List.

4. Vote in Inv. Nos. 701-TA-489 and 731-TA-1201 (Preliminary) (Drawn Stainless Steel Sinks from China). The Commission is currently scheduled to transmit its determinations to the Secretary of Commerce on or before April 16, 2012; Commissioners' opinions are currently scheduled to be transmitted to the Secretary of Commerce on or before April 23, 2012.

5. Outstanding action jackets: none.

In accordance with Commission policy, subject matter listed above, not disposed of at the scheduled meeting, may be carried over to the agenda of the following meeting.

Issued: April 3, 2012.
By order of the Commission.
James R. Holbein,
Secretary to the Commission.

[FR Doc. 2012-8407 Filed 4-4-12; 11:15 am]

BILLING CODE P